DEPARTMENT OF TRANSPORTATION

Federal Transit Administration

[Docket FTA-2011-0054; Docket FTA-2011-0055]

Title VI; Proposed Circular, Environmental Justice; Proposed Circular

AGENCY: Federal Transit Administration (FTA), DOT.

ACTION: Notice; correction.

SUMMARY: This notice corrects the date for the Detroit public information session and corrects the sponsorship of the FTA information sessions, as published in the September 29, 2011, Federal Register Notices titled “Title VI; Proposed Circular” and “Environmental Justice; Proposed Circular.”

FOR FURTHER INFORMATION CONTACT: For program questions, Amber Ontiveros, Office of Civil Rights, Federal Transit Administration, 1200 New Jersey Ave., SE., Washington, DC 20590, phone: (202) 366-4018, fax: (202) 366-3809, or e-mail, Amber.Ontiveros@dot.gov. For legal questions, Bonnie Graves, Office of Chief Counsel, same address, phone: (202) 366-4011, or e-mail, Bonnie.Graves@dot.gov.

SUPPLEMENTARY INFORMATION: This notice corrects the date for the Detroit public information session and corrects the sponsorship of the FTA information sessions, as published in the September 29, 2011, Federal Register Notices titled “Title VI; Proposed Circular” (76 FR 60593) and “Environmental Justice; Proposed Circular” (76 FR 60590).

Corrections

The Detroit public information session will not be held on November 9, 2011. The new date is Thursday, November 3, 2011. Please visit FTA's Web site at http://www.fta.dot.gov for information regarding the exact location. The time is the same: 6 p.m.-9 p.m.

FTA is the sole sponsor of the scheduled information sessions.

Issued in Washington, DC, this 30th day of September, 2011.
Peter Rogoff,
Administrator.

[FR Doc. 2011-25878 Filed 10-5-11; 8:45 am]

BILLING CODE P